DEPARTMENT OF ENERGY

Federal Energy Regulatory Commission

Combined Notice of Filings #1

Take notice that the Commission received the following electric corporate filings:

Docket Numbers: EC19-114-000.

Applicants: Big Sky Wind, LLC, Pattern Renewables 2 LP.

Description: Application for Authorization Under Section 203 of the Federal Power Act, et al. of Big Sky Wind, LLC, et al.

Filed Date: 7/18/19.

Accession Number: 20190718-5095.

Comments Due: 5 p.m. ET 8/8/19.

Take notice that the Commission received the following exempt wholesale generator filings:

Docket Numbers: EG19-153-000.

Applicants: Hickory Run Energy, LLC.

Description: Hickory Run Energy, LLC Notice of Self-Certification of Exempt Wholesale Generator Status.

Filed Date: 7/19/19.

Accession Number: 20190719-5052.

Comments Due: 5 p.m. ET 8/9/19.

Take notice that the Commission received the following electric rate filings:

Docket Numbers: ER17-1198-001.

Applicants: Ameren Illinois Company.

Description: Compliance Filing to Order on Formal Challenge of Ameren Illinois Company.

Filed Date: 7/19/19.

Accession Number: 20190719-5099.

Comments Due: 5 p.m. ET 8/9/19.

Docket Numbers: ER19-151-001.

Applicants: MATL LLP.

Description: Post-Open Solicitation Compliance Filing, et al. of MATL LLP.

Filed Date: 7/19/19.

Accession Number: 20190719-5071.

Comments Due: 5 p.m. ET 8/9/19.

Docket Numbers: ER19-1928-001.

Applicants: Southwest Power Pool, Inc.

Description: Tariff Amendment: 3290R2 Sholes Wind GIA—Extension of Time for Commission Action to be effective 4/25/2019.

Filed Date: 7/19/19.

Accession Number: 20190719-5046.

Comments Due: 5 p.m. ET 8/9/19.

Docket Numbers: ER19-1962-001.

Applicants: Southwest Power Pool, Inc.

Description: Tariff Amendment: 1166R33 Oklahoma Municipal Power Authority NITSA and NOA Amended Filing to be effective 7/1/2019.

Filed Date: 7/19/19.

Accession Number: 20190719-5089.

Comments Due: 5 p.m. ET 8/9/19.

Docket Numbers: ER19-2285-001.

Applicants: Alabama Power Company.

Description: Tariff Amendment: Amendment to SWE (PowerSouth Territorial) NITSA Amendment Filing (45 Byrd WayDP) to be effective 6/1/2019.

Filed Date: 7/19/19.

Accession Number: 20190719-5059.

Comments Due: 5 p.m. ET 8/9/19.

Docket Numbers: ER19-2422-000.

Applicants: San Diego Gas & Electric Company, Sempra Gas & Power Marketing, LLC.

Description: Joint Application for Approval of Affiliate Transaction of San Diego Gas & Electric Company, et al.

Filed Date: 7/18/19.

Accession Number: 20190718-5154.

Comments Due: 5 p.m. ET 8/8/19.

Docket Numbers: ER19-2423-000.

Applicants: Mid-Atlantic Interstate Transmission, LLC, PJM Interconnection, L.L.C.

Description: § 205(d) Rate Filing: MAIT submits 10 Engineering and Construction Services Agreements to be effective 9/17/2019.

Filed Date: 7/19/19.

Accession Number: 20190719-5051.

Comments Due: 5 p.m. ET 8/9/19.

Docket Numbers: ER19-2424-000.

Applicants: Alabama Power Company.

Description: § 205(d) Rate Filing: Pembroke Energy Project LGIA Filing to be effective 7/8/2019.

Filed Date: 7/19/19.

Accession Number: 20190719-5055.

Comments Due: 5 p.m. ET 8/9/19.

Docket Numbers: ER19-2425-000.

Applicants: Mitsui & Co. Energy Marketing and Services (USA), Inc.

Description: Baseline eTariff Filing: Application for Market Based Rate to be effective 9/17/2019.

Filed Date: 7/19/19.

Accession Number: 20190719-5079.

Comments Due: 5 p.m. ET 8/9/19.

Docket Numbers: ER19-2426-000.

Applicants: Pacific Gas and Electric Company.

Description: § 205(d) Rate Filing: CCSF Work Performance Agreement for Warnerville Rehabilitation (TO SA 284) to be effective 7/20/2019.

Filed Date: 7/19/19.

Accession Number: 20190719-5093.

Comments Due: 5 p.m. ET 8/9/19.

Docket Numbers: ER19-2427-000.

Applicants: Nine Mile Point Nuclear Station, LLC.

Description: Baseline eTariff Filing: 2nd Amended Operating Agreement to be effective 7/20/2019.

Filed Date: 7/19/19.

Accession Number: 20190719-5096.

Comments Due: 5 p.m. ET 8/9/19.

Docket Numbers: ER19-2428-000.

Applicants: Grazing Yak Solar, LLC.

Description: Baseline eTariff Filing: Golden West Power Partners, LLC and Grazing Yak Solar, LLC SFA to be effective 9/18/2019.

Filed Date: 7/19/19.

Accession Number: 20190719-5103.

Comments Due: 5 p.m. ET 8/9/19.

Docket Numbers: ER19-2429-000.

Applicants: Brookfield Smoky Mountain Hydropower LP.

Description: Compliance filing: Baseline Tariff Submission and Request for Administrative Cancellation to be effective 6/1/2019.

Filed Date: 7/19/19.

Accession Number: 20190719-5105.

Comments Due: 5 p.m. ET 8/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2019.
Nathaniel J. Davis, Sr.,
Deputy Secretary.

[FR Doc. 2019-15865 Filed 7-25-19; 8:45 am]

BILLING CODE 6717-01-P